DEPARTMENT OF COMMERCE

National Oceanic and Atmospheric Administration

Notice of Intent To Prepare a Draft Environmental Impact Statement for the Gray's Reef National Marine Sanctuary

AGENCY: Office of National Marine Sanctuaries, National Ocean Service, National Oceanic and Atmospheric Administration, Department of Commerce.

ACTION: Notice of intent to initiate public scoping.

SUMMARY: The National Oceanic and Atmospheric Administration's (NOAA) Office of National Marine Sanctuaries (ONMS) is preparing a draft environmental impact statement to consider the establishment of a research (control) area in Gray's Reef National Marine Sanctuary (GRNMS). Activities are restricted within research areas in order to facilitate better understanding of resources and environmental processes. This notice announces the beginning of public scoping pursuant to the National Environmental Policy Act. The public scoping process, including public scoping meetings, is intended to solicit information and comments on the range and significance of issues related to the establishment of a research area at Gray's Reef. The results of this scoping process will assist NOAA in formulating alternatives for the draft environmental impact statement for the proposed research area. This notice contains times, dates, and locations for scoping meetings.

DATES: Comments will be considered if received by April 21, 2008.

Scoping meetings will be held at:

(1) March 18, 2008, Camden Public Library, 6-8 p.m.

(2) March 20, 2008, Armstrong Center, 6-8 p.m.

(3) March 24, 2008, Statesboro Regional Library, 6-8 p.m.

(4) March 25, 2008, Stevens Wetlands Education Center, 6-8 p.m.

(5) March 27, 2008, Best Western Sea Island Inn, 6-8 p.m.

ADDRESSES: Written comments may be sent to Gray's Reef NMS (Research Area), 10 Ocean Science Circle, Savannah, GA 31411; or by facsimile to 912/598-2367; or to grnms.researcharea@noaa.gov.

Scoping meetings will be held at:

(1) Camden Public Library, 1410 Highway 40 East, Kingsland, Georgia 31548.

(2) Armstrong Center, 13040 Abercorn St., Savannah, Georgia 31419.

(3) Statesboro Regional Library, 124 South Main St., Statesboro, Georgia 30458.

(4) Stevens Wetlands Education Center, 600 Cedar St., Richmond Hill, Georgia 31324.

(5) Best Western Sea Island Inn, 1015 Bay St., Beaufort, South Carolina 29902.

FOR FURTHER INFORMATION CONTACT: Becky Shortland (912) 598-2381 or Becky.Shortland@noaa.gov.

SUPPLEMENTARY INFORMATION: The National Marine Sanctuaries Act (NMSA), 16 U.S.C. 1431 et seq., authorizes the Secretary of Commerce (Secretary) to designate discrete areas of the marine environment as national marine sanctuaries to protect their special conservation, recreational, ecological, historical, cultural, archaeological, scientific, educational, or esthetic qualities. The NMSA is administered by the National Oceanic and Atmospheric Administration (NOAA) through the Office of National Marine Sanctuaries (ONMS).

The concept of a research (control) area within Gray's Reef National Marine Sanctuary has been under discussion for several years. The concept was first raised in 1999 during the early stages of the GRNMS Management Plan review process at public scoping meetings and was raised again during public research workshops.

Subsequently, the Gray's Reef Sanctuary Advisory Council (SAC), with the approval of the Sanctuary superintendent, formed a research area working group (RAWG) to further consider the concept. The Advisory Council's recommendation to investigate the concept of a marine research area was adopted by GRNMS as a research and monitoring strategy for the Management Plan which was released in 2006.

The RAWG comprised representative constituents of Gray's Reef including: researchers, academics, conservation groups, recreational anglers and divers, educators, commercial fishing, law enforcement and sanctuaries representatives. The working group met initially in May 2004, and then periodically over the course of a year, to discuss the concept in detail. The working group employed a consensus-driven, constituent-based process to address the concept of a marine research area. All participants discussed at length all issues, considerations, priorities and concerns for each step of the process.

The following recommendations were developed by the working group and were referred to the SAC. After reviewing and considering the recommendations, the SAC adopted and submitted them to NOAA GRNMS:

Recommendation #1

Significant research questions exist at Gray's Reef National Marine Sanctuary that can only be addressed by establishing a control (research) area. Therefore, the research area concept should be further explored by NOAA through a public review process.

Recommendation #2

As many appropriate tools as feasible, especially a GIS (Geographic Information Systems, geographic and spatial analysis software) site evaluation tool and a RAWG should be used to investigate a research area with proper siting criteria.

Recommendation #3

Diversity of habitat with emphasis on high relief habitat should be the primary siting criterion. The RAWG should be maintained to support NOAA GRNMS in consideration of these various criteria (e.g., habitat, size, existing research and monitoring sites, bottom fishing data) in developing proposed options for a draft environmental impact statement.

Recommendation #4

Minimizing impacts to user communities including fishing, diving, research, and resource management should be a priority under the research area concept. Non-bottom impinging activities should not be viewed as conflicting with the primary objectives of a proposed research area. Based on the recommendations of the Advisory Council, NOAA has concluded that the research area concept should be further explored through a public review process. In the upcoming DEIS, NOAA will likely develop a range of alternatives for the creation of a research area, including a no-action alternative. If this action results in the creation of a research area in the GRNMS, a companion management plan for the research area will serve as a supplement to the 2006 GRNMS Final Management Plan/Final Environmental Impact Statement.

By this notice, NOAA announces the initiation of scoping for the proposed research area in Gray's Reef National Marine Sanctuary. Scoping is the initial process intended to solicit information and comments on the range and significance of issues related to the proposed action. The results of this scoping process will assist NOAA in formulating alternatives for a draft environmental impact statement for the proposed research area.

NOAA encourages the public and interested parties to submit (via mail, e-mail, or fax) comments and to attend the public scoping meetings in March.

Authority: 16 U.S.C. 1431 et seq.

(Federal Domestic Assistance Catalog Number 11.429 Marine Sanctuary Program)

Dated: February 26, 2008.
John H. Dunnigan,
Assistant Administrator, Ocean Services and Coastal Zone Management, National Oceanic and Atmospheric Administration.

[FR Doc. 08-930 Filed 3-4-08; 8:45 am]

BILLING CODE 3510-NK-M